DEPARTMENT OF ENERGY

Federal Energy Regulatory Commission

[Docket No. CP00-197-000]

Destin Pipeline Company, L.L.C.; Notice of Application

April 27, 2000.

Take notice that on April 19, 2000, Destin Pipeline Company, L.L.C. (Destin) filed in Docket No. CP00-197-000 an application pursuant to the provisions of Section 7 of the Natural Gas Act for a certificate of public convenience and necessity authorizing the construction, installation and operation of a receipt meter and a delivery meter to accommodate the transportation of natural gas production from a new gas treatment plant located in Wayne County, Mississippi for delivery to direct industrial customers and pipeline interconnection in southern and central Mississippi, all as more fully set forth in the application which is on file with Commission and open to public inspection. This filing may be viewed on the web at http://www.ferc.fed.us/online/rims.htm (call 202-208-2222 for assistance).

Specifically, Destin is proposing to construct, install and operate one six-inch diameter receipt meter, one two-inch diameter delivery meter, and other appurtenant equipment. Desin will be reimbursed for the total cost of these facilities, which is estimated to be $267,300, by Kahuna Gas, LLC, the owner of the gas treatment plant Destin is seeking case specific Section 7 authorization because its blanket certificate authority was suspended by the Commission.¹ Destin requests Commission approval of this application no later than May 15, 2000, so that the facilities will be in service by July 1, 2000.

Any questions regarding the application should be directed to Larry D. Jensen at 713-230-3134 and ljensen@coral-energy.com., Coral Gas Transmission, L.L.C., 1301 McKinney Street, Suite 700, Houston, Texas 77010.

¹ See, Destin Pipeline Company, LLC.; 90 FERC ¶ 61,220 (2000).

Any person desiring to be heard or to make protest with reference to said application should on or before May 4, 2000, file with the Federal Energy Regulatory Commission, 888 First Street N.E., Washington, D.C. 20426, a motion to intervene or protest in accordance with the requirements of the Commission's Rules of Practice and Procedure (18 CFR 385.211 and 385.214) and the regulations under the NGA (18 CFR 157.10). All protests filed with the Commission will be considered by it in determining the appropriate action to be taken but will not serve to make the protestants parties to the proceeding. Any person wishing to become party in any proceeding must file a motion to intervene in accordance with the Commission's rules.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered. A person, instead, may submit two copies of such comments to the Secretary of the Commission. Commentors will be placed on the Commission's environmental mailing list, will receive copies of environmental documents, and will be able to participate in meetings associated with the Commission's environmental review process. Commenters will not be required to serve copies of filed documents on all other parties. However, commenters will not receive copies of all documents filed by other parties or issued by the Commission, and will not have the right to seek rehearing or appeal the Commission's final order to a Federal court.

The Commission will consider all comments and concerns equally, whether filed by commenters or those requesting intervenor status.

Take further notice that, pursuant to the authority contained in and subject to the jurisdiction conferred upon the Commission by Sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure provided for, unless otherwise advised, it will be unnecessary for Destin to appear or to be represented at the hearing.

David P. Boergers,
Secretary.

[FR Doc. 00-10954 Filed 5-2-00; 8:45 am]

BILLING CODE 6717-01-M